DEPARTMENT OF COMMERCE

International Trade Administration

[A-588-702, A-580-813, A-583-816]

Certain Stainless Steel Butt-Weld Pipe Fittings from Japan, South Korea, and Taiwan; Final Results of the Expedited Sunset Reviews of the Antidumping Duty Orders

AGENCY: Import Administration, International Trade Administration, Department of Commerce.

SUMMARY: On February 2, 2005, the Department of Commerce (the Department) initiated sunset reviews of the antidumping duty orders on certain stainless steel butt-weld pipe fittings (pipe fittings) from Japan, South Korea, and Taiwan pursuant to section 751(c) of the Tariff Act of 1930, as amended (the Act). On the basis of a notice of intent to participate and adequate substantive responses filed on behalf of domestic interested parties and no response from respondent interested parties, the Department conducted expedited (120-day) sunset reviews. As a result of these sunset reviews, the Department finds that revocation of the antidumping duty orders would be likely to lead to continuation or recurrence of dumping. The dumping margins are identified below in the “Final Results of Review” section of this notice.

EFFECTIVE DATE: September 9, 2005.

FOR FURTHER INFORMATION CONTACT: Dana Mermelstein, AD/CVD Operations, Office 6, Import Administration, International Trade Administration, U.S. Department of Commerce, 14th Street and Constitution Avenue, NW, Washington, DC 20230, telephone (202) 482-1391.

SUPPLEMENTARY INFORMATION:

Background

On February 2, 2005, the Department initiated sunset reviews of the antidumping duty orders on pipe fittings from Japan, Korea, and Taiwan pursuant to section 751(c) of the Act. See Initiation of Five-Year (“Sunset”) Reviews, 69 FR 69891 (Feb. 2, 2005). The Department received notices of intent to participate from four domestic interested parties, Flowline Division of Markovitz Enterprises, Inc. (Flowline), Gerlin, Inc. (Gerlin), Shaw Alloy Piping Products, Inc. (formerly Alloy Piping Products, Inc.) (Shaw), and Taylor Forge Stainless, Inc. (Taylor Forge) (collectively, domestic interested parties), within the deadline specified in section 351.218(d)(1)(i) of the Department's regulations. Domestic interested parties claimed interested party status under section 771(9)(C) of the Act as U.S. producers of a domestic like product. We received a complete substantive response from the domestic interested party within the 30-day deadline specified in 19 CFR 351.218(d)(3)(i). However, we did not receive any responses from any respondent interested parties. As a result, pursuant to section 751(c)(3)(B) of the Act and 19 CFR 351.218(e)(1)(ii)(C)(2), the Department conducted expedited sunset reviews of these orders.

On May 26, 2005, the Department extended the time limit for final results of these sunset reviews to not later than August 31, 2005. See Stainless Steel Butt-Weld Pipe Fittings from Japan, Korea, and Taiwan: Extension of Time Limit for the Final Results of Sunset Reviews of Antidumping Duty Orders, 70 FR 30416 (May 26, 2005).

Scope of the Orders

Japan

The products covered by this order include certain stainless steel butt-weld pipe and tube fittings, or SSPFs. These fittings are used in piping systems for chemical plants, pharmaceutical plants, food processing facilities, waste treatment facilities, semiconductor equipment applications, nuclear power plants and other areas. This merchandise is classifiable under the Harmonized Tariff Schedules of the United States (HTSUS) item number 7307.23.0000. While the HTS item number is provided for convenience and for Customs purposes, the written product description remains dispositive as to the scope of the product coverage.

South Korea

The products subject to this order are certain welded stainless steel butt-weld pipe fittings (pipe fittings), whether finished or unfinished, under 14 inches in inside diameter.

Pipe fittings are used to connect pipe sections in piping systems where conditions require welded connections. The subject merchandise can be used where one or more of the following conditions is a factor in designing the piping system: (1) Corrosion of the piping system will occur if material other than stainless steel is used; (2) contamination of the material in the system by the system itself must be prevented; (3) high temperatures are present; (4) extreme low temperatures are present; (5) high pressures are contained within the system.

Pipe fittings come in a variety of shapes, and the following five are the most basic: “elbows,” “tees,” “reducers,” “stub ends,” and “caps.” The edges of finished fittings are beveled. Threaded, grooved, and bolted fittings are excluded from this review. The pipe fittings subject to this order are classifiable under subheading 7307.23.00 of the Harmonized Tariff Schedules of the United States (HTSUS).

Although the HTSUS subheading is provided for convenience and customs purposes, our written description of the scope of this proceeding is dispositive.

Taiwan

The products subject to this order are certain stainless steel butt-weld pipe fittings, whether finished or unfinished, under 14 inches inside diameter.

Certain welded stainless steel butt-weld pipe fittings (“pipe fittings”) are used to connect pipe sections in piping systems where conditions require welded connections. The subject merchandise is used where one or more of the following conditions is a factor in designing the piping system: (1) Corrosion of the piping system will occur if material other than stainless steel is used; (2) contamination of the material in the system by the system itself must be prevented; (3) high temperatures are present; (4) extreme low temperatures are present; and (5) high pressures are contained within the system.

Pipe fittings come in a variety of shapes, with the following five shapes the most basic: “elbows,” “tees,” “reducers,” “stub ends,” and “caps.” The edges of finished pipe fittings are beveled. Threaded, grooved, and bolted fittings are excluded from this review. The pipe fittings subject to this order are classifiable under subheading 7307.23.00 of the Harmonized Tariff Schedules of the United States (HTSUS).

Although the HTSUS subheading is provided for convenience and customs purposes, our written description of the scope of this review is dispositive.

Analysis of Comments Received

All issues raised in these cases are addressed in the “Issues and Decision Memorandum” from Barbara E. Tillman, Acting Deputy Assistant Secretary for Import Administration, to Joseph A. Spetrini, Acting Assistant Secretary for Import Administration, dated August 30, 2005, (Decision Memorandum), which is hereby adopted by this notice. The issues discussed in the Decision Memorandum include the likelihood of continuation or recurrence of dumping and the magnitude of the margin likely to prevail if the orders were revoked. Parties can find a complete discussion of all issues raised in these sunset reviews and the corresponding recommendations in this public memorandum, which is on file in room B-099 of the main Department building.

In addition, a complete version of the Decision Memorandum can be accessed directly on the Internet at http://ia.ita.doc.gov, under the heading “September 2005.” The paper copy and electronic version of the Decision Memorandum are identical in content.

Final Results of Reviews

We determine that revocation of the antidumping duty orders on pipe fittings from Japan, Korea, and Taiwan would likely lead to continuation or recurrence of dumping at the following percentage weighted-average margins:

Manufacturers/Exporters/Producers | Weighted-Average Margin (Percent)
Japan
Mie Horo | 65.08
Nippon Benkan Kogyo, K.K. | 37.24
All Others | 49.31
South Korea
The Asia Bend Co. Ltd. | 21.20
All Others | 21.20
Taiwan
Tachia Yung Ho Machine Industry Co., Ltd. | 76.20
Ta Chen Stainless Pipe Co., Ltd. | 6.42
Tru-Flow Industrial Co., Ltd. | 76.20
All Others | 51.01

This notice also serves as the only reminder to parties subject to administrative protective orders (APO) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing the results and notice in accordance with sections 751(c), 752, and 777(i)(1) of the Act.

Dated: August 30, 2005.
Joseph A. Spetrini,
Acting Assistant Secretary for Import Administration.

[FR Doc. E5-4940 Filed 9-8-05; 8:45 am]

Billing Code: 3510-DS-S